DEPARTMENT OF ENERGY

Federal Energy Regulatory Commission

Combined Notice of Filings

Take notice that the Commission has received the following Natural Gas Pipeline Rate and Refund Report filings:

Filings Instituting Proceedings

Docket Number: PR18-2-001.

Applicants: Acacia Natural Gas, L.L.C.

Description: Tariff filing per 284.123(b),(e)+(g): Acacia Natural Gas Filing—December 6, 2017 to be effective 12/6/2017.

Filed Date: 12/6/17.

Accession Number: 201712065111.

Comments Due: 5 p.m. ET 12/27/17.

284.123(g) Protests Due: 5 p.m. ET 12/27/17.

Docket Numbers: RP18-244-000.

Applicants: National Fuel Gas Supply Corporation.

Description: § 4(d) Rate Filing: Security Administrator to be effective 12/31/9998.

Filed Date: 12/7/17.

Accession Number: 20171207-5081.

Comments Due: 5 p.m. ET 12/19/17.

Docket Numbers: RP18-245-000.

Applicants: Empire Pipeline, Inc.

Description: § 4(d) Rate Filing: Empire Security Administrator to be effective 12/31/9998.

Filed Date: 12/7/17.

Accession Number: 20171207-5112.

Comments Due: 5 p.m. ET 12/19/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2017.
Kimberly D. Bose,
Secretary.

[FR Doc. 2017-27170 Filed 12-15-17; 8:45 am]

BILLING CODE 6717-01-P